FEDERAL COMMUNICATIONS COMMISSION

[DA 03-3391]

NYNEX Waiver of Access Charges

AGENCY: Federal Communications Commission.

ACTION: Notice; termination of proceeding.

SUMMARY: This document provides notice of the termination of a proceeding seeking reconsideration of a 1995 Commission order granting NYNEX a waiver of certain parts of the access charge rules. NYNEX (now Verizon) no longer charges the specific access charges at issue in this proceeding, therefore the substantive issues in this proceeding are moot.

DATES: This proceeding will be terminated effective December 5, 2003, unless the Wireline Competition Bureau receives an opposition to the termination prior to that date.

ADDRESSES: Oppositions to the proceeding termination should be mailed to the Commission's Secretary through the Commission's contractor, Natek, Inc., at 236 Massachusetts Avenue, NE., Suite 110, Washington, DC 20002.

FOR FURTHER INFORMATION CONTACT: Jennifer McKee, Wireline Competition Bureau, Pricing Policy Division, (202) 418-1530.

SUPPLEMENTARY INFORMATION: On May 4, 1995, the Commission released an order in the above-referenced proceeding granting NYNEX a waiver to deaverage the transport interconnection charge (TIC) and recover the carrier common line (CCL) charge on a per-line, rather than a per-minute, basis. AT&T and Teleport filed petitions for reconsideration of this order on June 5, 1995. On October 16, 2003, AT&T filed a request to withdraw both its reconsideration petition and that of Teleport, which is now owned by AT&T. Based on its request to withdraw, AT&T's reconsideration petitions are dismissed without prejudice. 47 CFR 1.748. It appears that there are no pending petitions for reconsideration or applications for review in this proceeding. At this time, Verizon (formerly NYNEX) no longer charges the TIC or the CCL charge at issue in the proceeding, thus the substantive issues in this proceeding are moot. Therefore, the proceeding will be terminated effective December 5, 2003, unless the Wireline Competition Bureau receives an opposition to the termination before that date.

Parties filing oppositions to the termination of this proceeding must file an original and four copies of each filing. The filings should reference the DA number of this Public Notice, DA 03-3391. Filings can be sent by hand or messenger delivery, by commercial overnight courier, or by first-class or overnight U.S. Postal Service mail (although we continue to experience delays in receiving U.S. Postal Service mail). The Commission's contractor, Natek, Inc., will receive hand-delivered or messenger-delivered paper filings for the Commission's Secretary at 236 Massachusetts Avenue, NE., Suite 110, Washington, DC 20002.

• The filing hours at this location are 8 a.m. to 7 p.m.

• All hand deliveries must be held together with rubber bands or fasteners.

• Any envelopes must be disposed of before entering the building.

• Commercial overnight mail (other than U.S. Postal Service Express Mail and Priority Mail) must be sent to 9300 East Hampton Drive, Capitol Heights, MD 20743.

• U.S. Postal Service first-class mail, Express Mail, and Priority Mail should be addressed to 445 12th Street, SW., Washington, DC 20554.

• All filings must be addressed to the Commission's Secretary, Office of the Secretary, Federal Communications Commission. Parties are also requested to send a courtesy copy of their oppositions to Jennifer McKee, Pricing Policy Division, Wireline Competition Bureau, Federal Communications Commission. Courtesy copies may also be sent via e-mail to jennifer.mckee@fcc.gov.

Authority: 47 U.S.C. 152, 153, 154, 155, 303, 307, 308, 309, 315, 317; 44 FR 18501, 67 FR 13223, 47 CFR 0.291, 1.749.

Federal Communications Commission.
William F. Maher, Jr.,
Chief, Wireline Competition Bureau.

[FR Doc. 03-27816 Filed 11-4-03; 8:45 am]

BILLING CODE 6712-01-P